DEPARTMENT OF THE TREASURY

Office of Foreign Assets Control

Unblocking of Two Specially Designated Nationals Pursuant to Executive Order 13224

AGENCY: Office of Foreign Assets Control, Treasury.

ACTION: Notice.

SUMMARY: The Treasury Department's Office of Foreign Assets Control (“OFAC”) is removing the names of two individuals from the list of Specially Designated Nationals and Blocked Persons whose property and interests in property have been blocked pursuant to Executive Order 13224 of September 23, 2001, Blocking Property and Prohibiting Transactions With Persons Who Commit, Threaten to Commit, or Support Terrorism.

DATES: The removal of the two individuals from the list of Specially Designated Nationals and Blocked Persons whose property and interests in property have been blocked pursuant to Executive Order 13224 is effective as of Tuesday, October 19, 2010.

FOR FURTHER INFORMATION CONTACT: Assistant Director, Compliance Outreach & Implementation, Office of Foreign Assets Control, Department of the Treasury, Washington, DC 20220, tel.: 202/622-2490.

SUPPLENTARY IMFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224.

On September 5, 2003 and on November 10, 2003, two additional individuals were designated by the Secretary of the Treasury. The Department of the Treasury's Office of Foreign Assets Control has determined that these two individuals no longer meet the criteria for designation under the Order and are appropriate for removal from the list of Specially Designated Nationals and Blocked Persons.

The following designations are removed from the list of Specially Designated Nationals and Blocked Persons:

AL SAADI, Faraj Farj Hassan (a.k.a. AL SA'IDI, Faraj Faraj Hussein; a.k.a. IMAD MOUHAMED ABDELLAH; a.k.a. MOHAMDED ABDULLA IMAD; a.k.a. MUHAMAD ABDULLAH IMAD; a.k.a. “HAMZA AL LIBI”), Viale Bligny 42, Milan, Italy; DOB 28 Nov 1980; POB Libya; alt. POB Palestine; alt. POB Jordan; alt. POB Gaza; nationality Libya; alt. nationality Jordan; alt. nationality Palestinian; arrested United Kingdom (individual) [SDGT]

TOP, Noordin Mohamed (a.k.a. MAT TOP, Noordin; a.k.a. THOB, Noordin Mohammad; a.k.a. TOP, Noor Din bin Mohamed; a.k.a. TOP, Nordin Mohd); DOB 11 Aug 1968; POB Malaysia; nationality Malaysia (individual) [SDGT]

The removal of these two individuals' names from the list of Specially Designated Nationals and Blocked Persons is effective as of Tuesday, October 19, 2010. All property and interests in property of the two individuals that are in or hereafter come within the United States or the possession or control of United States persons are now unblocked.

Dated: October 26, 2010.
Adam J. Szubin,
Director, Office of Foreign Assets Control.

[FR Doc. 2010-27512 Filed 10-29-10; 8:45 am]

BILLING CODE 4810-AL-P